DEPARTMENT OF TRANSPORTATION

Federal Transit Administration

Early Scoping for the Alternatives Analysis of the North Corridor Transit Project in Metropolitan Seattle

AGENCY: Federal Transit Administration, DOT.

ACTION: Early Scoping Notice.

SUMMARY: The Federal Transit Administration (FTA) and the Central Puget Sound Regional Transit Authority (Sound Transit) issue this early scoping notice to advise other agencies and the public that they intend to explore alternatives for improving transit service between Northgate in Seattle and Lynnwood, in King and Snohomish counties, Washington. The early scoping is being conducted within the context of the Council on Environmental Quality's regulations for complying with the National Environmental Policy Act (NEPA) and is part of a planning Alternatives Analysis (AA) required by Title 49 United States Code (U.S.C.) 5309 to analyze the potential for a fixed guideway alternative to be implemented as an FTA-assisted major capital transit investment. The AA process results in the selection or confirmation of a locally preferred alternative which is the proposed action. The early scoping notice is intended to invite public comments on the scope of the AA study, including the transportation problems to be addressed, a range of alternatives, the transportation and community impacts and benefits to be considered, the capital and operating costs, the financial plans and other factors that the public and agencies believe should be considered in analyzing alternatives. If preparation of an environmental impact statement (EIS) is warranted following completion of the planning AA, a notice of intent to prepare an EIS will be published. This early scoping process is intended to support the future NEPA scoping process. Public meetings and the range of alternatives currently identified to address the project's purpose are described below.

DATES: Three public scoping meetings and one agency scoping meeting to accept comments will be held on the following dates and locations:

Public Meetings

North Seattle: October 7, 2010. Ingraham High School, 1819 N. 135th St., Seattle, 98133.

Lynnwood: October 12, 2010. Lynnwood Convention Center, 3711 196th St., SW., Lynnwood, 98036.

Shoreline: October 14, 2010. Shoreline Conference Center, 18560 1st Ave., NE., Shoreline, 98155.

All public meetings will be from 6 to 8:30 p.m.

Agency Meeting

Seattle: October 13, 2010, 1 p.m. to 3 p.m. Sound Transit offices, 401 S. Jackson St., Seattle, 98104.

Invitations to the interagency scoping meeting will be sent to appropriate Federal, state, local, and tribal governmental units.

In addition to the supplemental information provided below, information on the AA will be provided at the public meetings, which will also provide opportunities for spoken or written comments. Information is also available on Sound Transit's Web site at: http://www.soundtransit.org/NorthHCT. Written scoping comments are requested by October 25, 2010 and can be sent or e-mailed to the address below, submitted at the public meetings, or provided via the online comment form available at http://www.soundtransit.org/NorthHCT.

ADDRESSES: Roger Iwata, North Corridor Project, Sound Transit, 401 S. Jackson Street, Seattle, WA 98104-2826, or by e-mail to roger.iwata@soundtransit.org.

FOR FURTHER INFORMATION CONTACT: John Witmer, Community Planner, Jackson Federal Building, 915 Second Avenue, Suite 3142, Seattle, WA 98174; Phone: (206) 220-7954; e-mail: John.Witmer@dot.gov.

SUPPLEMENTARY INFORMATION:

Early Scoping

As defined by law, alternatives analysis (AA) is the first step of the New Starts project development process. AA is the local forum for evaluating the costs, benefits, and impacts of a range of transportation alternatives designed to address mobility problems and other locally-identified objectives in a defined transportation corridor, and for determining which particular investment strategy should be advanced for more focused study and development. For AA studies which may result in the local selection of a project eligible for FTA New Starts or Small Starts funding, the AA further serves as the process for development of the technical information necessary to support a candidate project's entry into New Starts preliminary engineering. Early scoping for the North Corridor project is being conducted in support of NEPA requirements and in accordance with the Council on Environmental Quality's regulations and guidance for implementing NEPA. See 40 CFR 1501.2 through 8, which encourage federal agencies to initiate NEPA early in their planning processes. Early scoping allows the scoping process to begin as soon as there is enough information to describe the proposal so that the public and relevant agencies can participate effectively. This is particularly useful in situations when a proposed action involves a broadly defined corridor with an array of modal and alignment alternatives under consideration.

This early scoping notice is intended to generate public comments on the scope of the planning AA, including the purpose and need for the project, a range of alternatives, the financial plans, and the environmental, transportation and community impacts and benefits to be considered.

The North Corridor and the Regional Transit System

The North Corridor is approximately eight to nine miles long depending on routing. Starting at Northgate in north Seattle and ending in Lynnwood, the corridor generally follows Interstate 5 (I-5), which is the major north-south route through Washington State and serves a large commuter market traveling between Snohomish and King Counties and the City of Seattle. The corridor is within a geographically constrained urban area that lies between the Puget Sound to the west and Lake Washington to the east, which limits transportation options. This is one of the densest urban areas in the Pacific Northwest and comprises one of the region's most productive markets for transit.

Sound Move, the first phase of regional transit investments, was approved and funded by voters in 1996. Sound Transit is now completing the development of Sound Move, which includes light rail, commuter rail and regional express bus infrastructure and service, including the Central Link light rail system between Northgate, the University of Washington, downtown Seattle, Tukwila and SeaTac. In 2009, Sound Transit began light rail operations between downtown Seattle and SeaTac. Link light rail north from downtown Seattle to Capitol Hill and the University of Washington is now under construction and is scheduled to open in 2016. The final section of Central Link light rail from the University of Washington to Northgate is about to enter final design with operation to begin in 2020.

In 2004, Sound Transit initiated planning for the second phase of investment to follow Sound Move. This work included updating Sound Transit's Long-Range Plan and associated environmental review. Following several years of system planning work to detail, evaluate, and prioritize the next round of regional transit system expansion, voters in 2008 authorized funding for the extension of the regional light rail system in the North Corridor as part of the Sound Transit 2 (ST2) Plan. The ST2 Plan also includes an East Link light rail line from downtown Seattle to Bellevue and Redmond to the east, and from SeaTac to Federal Way to the south.

Transportation Purpose of the North Corridor Project

The purpose of the project is to improve transit service from Seattle north into Snohomish County by:

(1) Providing reliable, rapid, and efficient two-way, all-day transit service of sufficient capacity to meet the existing and projected demand between the communities and activity centers located in the North Corridor and the other urban centers in the central Puget Sound area by providing a mobility alternative to travel on congested roadways and improved connections to the regional multimodal transportation system;

(2) Supporting North Corridor communities' and the region's land use, transportation and economic development vision, which promotes the well-being of people and communities, ensures economic vitality and preserves a healthy environment; and

(3) Supporting the long-range vision, goals, and objectives for transit service established by Sound Transit's Long-Range Plan for high quality regional transit service connecting major activity centers in King, Pierce and Snohomish counties.

The project is needed to:

• Meet the rapidly growing transportation needs of the corridor and the region's future residents and workers by increasing mobility, access, and transportation capacity to and from regional growth and activity centers in the North Corridor and the rest of the region, as called for in the region's adopted plans, including the Puget Sound Regional Council's VISION 2040 and Transportation 2040, as well as related county and city comprehensive plans.

• Address the problems of increasing and unreliable travel times for transit users in the North Corridor, who are now dependent on the corridor's highly congested roadway and high occupancy vehicle systems.

• Address overcrowding facing current and future North Corridor transit riders due to insufficient capacity of the infrastructure that supports the current transit system.

• Provide an alternative to automobile trips on I-5 and SR 99, the two primary highways serving the corridor, which are unreliable and over capacity throughout significant portions of the day.

• Implement the long-range vision for regional transit service established by Sound Transit's Long Range Plan, with a transit investment that supports economic vitality, preserves the environment, preserves communities, and allows for the further extension of regional transit north to Everett.

• Ensure long-term regional mobility, multimodal connectivity, and convenience for North Corridor citizens and communities, including travel-disadvantaged residents and low income and minority populations.

• Provide the transit infrastructure needed to support the development of Northgate and Lynnwood as designated regional growth centers providing housing, employment, public services, and multimodal transportation connections.

• Help support the environmental and sustainability goals of the state and region, including state regulations setting goals for reducing annual per capita vehicle miles traveled by 2050, in accordance with RCW 47.01.440, and the reduction of greenhouse gas emissions (Limiting Green House Gas Emissions, RCW Chapter 702.35).

Alternatives

In developing the ST2 Plan, Sound Transit defined a light rail alignment that helped establish the ridership potential and costs for the transit improvements in the North Corridor. The alignment was assumed to be entirely elevated primarily along I-5. The project elements included a light rail guideway, track, and systems extending approximately 8.5 miles north from Northgate Station to Lynnwood Transit Center. After leaving Northgate Station, the alignment followed the east side of I-5 to about 48th Avenue W. in Snohomish County and then crossed to the west side of I-5 to enter Lynnwood Transit Center. Four new stations were anticipated at NE. 145th Street, NE. 185th Street, SW., 236th Street, and the Lynnwood Transit Center (terminal station), all sized to accommodate 4-car trains. Park-and-ride structures of 500 stalls each would be provided at NE 145th Street, NE., 185th Street, and Lynnwood Transit Center.

As part of the AA and in accordance with FTA guidance for New Start projects, Sound Transit will explore alternative mode, alignment, station, and design configurations for improved transit in the North Corridor. All alternatives will be compared to a “No-Build” alternative, which represents the future transportation system through the year 2030 without North Corridor transit improvements, and a Transportation Systems Management (TSM) alternative, which will examine methods for improving transit in the North Corridor without a new fixed guideway. Potential elements of a TSM alternative could include more frequent bus service, new or expanded park-and-ride capacity, or freeway or arterial transit priority improvements.

Sound Transit is inviting comments on the alternative transit modes, alignments, station locations, and design configurations to be studied, as well as comment on proposed evaluation measures to be used to compare alternatives. Routes that may be considered follow portions of State Route 99, the Interurban Trail, Interstate 5 and 15th Avenue NE. The definition of these alternatives will reflect a range of high and low cost capital improvements, including non-guideway options which can serve as a “baseline” for measuring the merits of higher level investments. Measures for evaluating the relative merits of alternatives will be identified, as will technical methodologies for generating the information used to support such measures; these will typically include disciplines such as travel forecasting, capital and operations and maintenance costing, and environmental and land use analyses. Finally, costs, benefits, and impacts of each alternative are developed and evaluated, funding strategies are analyzed, and a locally preferred alternative (LPA) is affirmed to be advanced for further development.

At the conclusion of the AA process, Sound Transit and the FTA anticipate narrowing the range of alternatives for further evaluation in a draft environmental impact statement (EIS), if warranted, potentially including identification of a locally preferred alternative. If the resulting range of alternatives involves the potential for significant environmental impacts requiring an EIS, a Notice of Intent to prepare an EIS will be published in the Federal Register, and public and agency comment on the scope of the EIS will be invited and considered at that time.

Issued on: September 17, 2010.
Linda Gehrke,
Deputy Regional Administrator.

[FR Doc. 2010-24103 Filed 9-24-10; 8:45 am]

BILLING CODE P